SMALL BUSINESS ADMINISTRATION

Disaster Declaration # 11162; Kansas Disaster Number KS-00025

AGENCY: U.S. Small Business Administration.

ACTION: Amendment 1.

SUMMARY: This is an amendment of the Presidential declaration of a major disaster for Public Assistance Only for the State of Kansas ( FEMA-1741-DR), dated 02/01/2008.

Incident: Severe Winter Storms.

Incident Period: 12/06/2007 through 12/19/2007.

Effective Date: 02/28/2008.

Physical Loan Application Deadline Date: 04/02/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Kansas, dated 02/01/2008, is hereby amended to include the following areas as adversely affected by the disaster.

Primary Counties: Gove, Logan, Sheridan, Thomas, Wallace.

All other information in the original declaration remains unchanged.

(Catalog of Federal Domestic Assistance Number 59008)

Herbert L. Mitchell,
Associate Administrator for Disaster Assistance.

[FR Doc. E8-5078 Filed 3-13-08; 8:45 am]

BILLING CODE 8025-01-P